DEPARTMENT OF TRANSPORTATION

Federal Aviation Administration

14 CFR Part 39

[Docket No. 99-NM-290-AD; Amendment 39-12590; AD 2001-26-24]

RIN 2120-AA64

Airworthiness Directives; McDonnell Douglas Model DC-9-10, -20, -30, -40, and -50 Series Airplanes; and C-9 Airplanes

AGENCY: Federal Aviation Administration, DOT.

ACTION: Final rule.

SUMMARY: This amendment adopts a new airworthiness directive (AD), applicable to McDonnell Douglas Model DC-9-10, -20, -30, -40, and -50 series airplanes; and C-9 airplanes that requires replacing the transformer ballast assembly in the pilot's console with a new, improved ballast assembly. The actions specified by this AD are intended to prevent overheating of the ballast transformers due to aging fluorescent tubes that cause a higher power demand on the ballast transformers, which could result in smoke in the cockpit. This action is intended to address the identified unsafe condition.

DATES: Effective February 8, 2002.

The incorporation by reference of certain publications listed in the regulations is approved by the Director of the Federal Register as of February 8, 2002.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Elvin Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION: A proposal to amend part 39 of the Federal Aviation Regulations (14 CFR part 39) to include an airworthiness directive (AD) that is applicable to certain McDonnell Douglas Model DC-9-10, -20, -30, -40, and -50 series airplanes and C-9 airplanes was published in the Federal Register on June 6, 2001 (66 FR 30345). That action proposed to require replacing the transformer ballast assembly in the first officer's console with a new, improved ballast assembly.

Comments

Interested persons have been afforded an opportunity to participate in the making of this amendment. Due consideration has been given to the comments received.

One commenter indicates that its DC-9 airplanes will be retired from service within the proposed compliance time of the AD and that, therefore, it has no comment.

Request To Reference Latest Service Bulletin

Several commenters request that the proposed AD refer to the latest service bulletin. They state that McDonnell Douglas Alert Service Bulletin DC9-33A114, dated November 1, 1999 (which is referenced in the notice of proposed rulemaking (NPRM) as the appropriate source of service information), erroneously indicates that the ballast assembly to be replaced is located in the first officer's console rather than in the pilot's console. A revision to the service bulletin (Revision 01, dated February 15, 2000) corrects the error and, therefore, should be cited in the AD as the service bulletin to use.

The FAA concurs. Since issuance of the NPRM, the FAA has reviewed and approved McDonnell Douglas Alert Service Bulletin DC9-33A114, Revision 01, dated February 15, 2000. The service bulletin describes procedures for replacing the transformer ballast assembly with a new, improved ballast assembly and identifies the pilot's console as the location of the ballast assembly. For clarification purposes, we have revised this AD to refer to the “pilot's console” rather than the “first officer's console” as the location of the transformer ballast assembly to be replaced.

Request To Allow Replacement With a “New or Serviceable” Ballast Assembly

Another commenter asks that operators be allowed to replace the existing ballast assembly with either a serviceable ballast assembly or a new, improved ballast assembly. The commenter suggests that replacement of a ballast assembly with a serviceable improved ballast assembly would provide an acceptable level of safety.

The FAA does not concur, because the part numbers of the old (serviceable) transformer ballast assembly are different from those of the new, improved assembly. Thus, there would be no way to tell whether ballast assemblies with the old part numbers were “old, unimproved” or “old, improved” assemblies.

Additional Change to Final Rule

The number of airplanes of U.S. registry affected by this AD has decreased since publication of the NPRM from approximately 543 to approximately 475. The estimated cost impact of the rule on U.S. operators has decreased correspondingly from between $781,377 and $1,042,560 (depending on the cost of parts) to between $683,525 and $912,000.

Conclusion

After careful review of the available data, including the comments noted above, the FAA has determined that air safety and the public interest require the adoption of the rule with the changes previously described. The FAA has determined that these changes will neither increase the economic burden on any operator nor increase the scope of the AD.

Cost Impact

There are approximately 575 Model DC-9-10, -20, -30, -40, and -50 series airplanes and C-9 airplanes of the affected design in the worldwide fleet. The FAA estimates that 475 airplanes of U.S. registry will be affected by this AD, that it will take approximately 1 work hour per airplane to accomplish the required actions, and that the average labor rate is $60 per work hour. Required parts will cost between $1,379 and $1,860 per airplane. Based on these figures, the cost impact of the AD on U.S. operators is estimated to be between $683,525 and $912,000, or between $1,439 or $1,920 per airplane.

The cost impact figures discussed above are based on assumptions that no operator has yet accomplished any of the requirements of this AD, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-26-24 McDonnell Douglas: Docket 99-NM-290-AD. Amendment 39-12590

Applicability: Model DC-9-10, -20, -30, -40, and -50 series airplanes; and C-9 airplanes; as listed in McDonnell Douglas Alert Service Bulletin DC9-33A114, Revision 01, dated February 15, 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent overheating of the ballast transformers due to aging fluorescent tubes that cause a higher power demand on the ballast transformers, which could result in smoke in the cockpit, accomplish the following:

Replacement

(a) Within 12 months after the effective date of this AD, replace the transformer ballast assembly from the pilot's console with a new, improved transformer ballast assembly, in accordance with McDonnell Douglas Alert Service Bulletin DC9-33A114, Revision 01, dated February 15, 2000.

Spares

(b) As of the effective date of this AD, no person shall install a transformer assembly, part number BA170-1, -11, -21, or -MOD.B, on any airplane.

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 2: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with McDonnell Douglas Alert Service Bulletin DC9-33A114, Revision 01, dated February 15, 2000. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(f) This amendment becomes effective on February 8, 2002.

Issued in Renton, Washington, on December 26, 2001.
Ali Bahrami,
Acting Manager, Transport Airplane Directorate, Aircraft Certification Service.

[FR Doc. 02-5 Filed 1-3-02; 8:45 am]

BILLING CODE 4910-13-P